OFFICE OF THE UNITED STATES TRADE REPRESENTATIVE

Generalized System of Preferences (GSP): Notice of the Results of the 2003 Annual Product Review and 2002 Annual Country Practices Review, and Certain Previously-Deferred Product and Country Practice Decisions

AGENCY: Office of the United States Trade Representative.

ACTION: Notice.

SUMMARY: This notice announces the disposition of the product petitions accepted for review in the 2003 GSP Annual Product Review and the 2002 GSP Country Practices Review, the results of the 2003 De Minimis Waiver and Redesignation Reviews, the 2003 Competitive Need Limitation removals, and certain previously-deferred product and country practice decisions.

FOR FURTHER INFORMATION CONTACT: The GSP Subcommittee, Office of the United States Trade Representative (USTR), Room F-220, 1724 F Street, NW., Washington, DC 20508. The telephone number is (202) 395-6971 and the facsimile number is (202) 395-9481.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2003 Annual Review, the GSP Subcommittee of the Trade Policy Staff Committee reviewed petitions to change the product coverage of the GSP. The disposition of those petitions is described in Annex I of this notice.

The disposition of certain previously deferred product decisions is described in Annex II.

The disposition of petitions reviewed in the 2002 Country Practices Review is described in Annex III. The Trade Policy Staff Committee previously decided not to initiate a full review of the country practice petitions submitted in the 2003 Annual GSP Review. 69 FR 8514 (February 24, 2003).

In the 2003 De Minimis Waiver and Redesignation Review, the GSP Subcommittee reviewed the appraised import values of each GSP-eligible article in 2003 to determine whether an article from a GSP beneficiary developing country exceeded the GSP Competitive Need Limitations (CNLs). De minimis waivers were granted to certain articles that exceeded the 50 percent import share CNL, but for which the aggregate value of the imports of that article was below the 2003 de minimis level of $16.5 million. Annex IV to this notice contains a list of the articles and countries granted de minimis waivers. A certain article from a GSP-eligible country that had previously exceeded one of the CNLs, but had fallen below the CNLs in 2003 ($110 million and 50 percent of U.S. imports of the article), was redesignated for GSP eligibility. This article and country are listed in Annex V.

Articles that exceeded one of the GSP CNLs in 2003, and that are newly excluded from GSP eligibility for specific countries, are listed in Annex VI.

Steven Falken,
Executive Director for GSP, Chairman, GSP Subcommittee.

BILLING CODE 3190-W4-P

[FR Doc. 04-15361 Filed 7-2-04; 8:45 am]

BILLING CODE 3190-W4-C